DEPARTMENT OF HEALTH AND HUMAN SERVICES

Office of the Secretary

[Document Identifier HHS-OS-0990-NEW-30D]

Agency Information Collection Activities; Proposed Collection; Public Comment Request

AGENCY: Office of the Assistant Secretary for Health, Office of Adolescent Health, HHS.

ACTION: Notice

SUMMARY: In compliance with section 3507(a)(1)(D) of the Paperwork Reduction Act of 1995, the Office of the Secretary (OS), Department of Health and Human Services, has submitted an Information Collection Request (ICR), described below, to the Office of Management and Budget (OMB) for review and approval. The ICR is for a new collection. Comments submitted during the first public review of this ICR will be provided to OMB. OMB will accept further comments from the public on this ICR during the review and approval period.

DATES: Comments on the ICR must be received on or before July 30, 2014.

ADDRESSES: Submit your comments to OIRA_submission@omb.eop.gov or via facsimile to (202) 395-5806.

FOR FURTHER INFORMATION CONTACT: Information Collection Clearance staff, Information.CollectionClearance@hhs.gov or (202) 690-6162.

SUPPLEMENTARY INFORMATION: When submitting comments or requesting information, please include the document identifier HHS-OS-0990-NEW-30D for reference.

Information Collection Request Title: Cost Study of Evidence-Based Teen Pregnancy Prevention Programs.

Abstract: The Office of Adolescent Health (OAH), U.S. Department of Health and Human Services (HHS) is requesting approval by OMB on a new collection. The proposed study will provide information on the cost and economic impact of selected evidence-based teen pregnancy prevention programs. This proposed information collection activity includes collecting information on (a) program costs and (b) program impacts from a subset of OAH TPP Program grantees.

Need and Proposed Use of the Information: A cost tool will collect comprehensive information on the cost of implementing of each selected program. An implementation tool will collect and summarize information on the characteristics of participating grantees. A staff time use survey will collect information on how program staff allocates their time across program activities. An economic evaluation form will collect information on program impact findings needed to assess the cost-effectiveness of selected programs.

Likely Respondents: A subset of up to 30 OAH TPP Program grantees will be asked to participate in the cost analysis. Of these 30 grantees, up to 15 will also be asked to participate in the economic evaluation. Study respondents will include the grant administrator or fiscal agent, the grantee's evaluator, and program staff.

Burden Statement: Burden in this context means the time expended by persons to generate, maintain, retain, disclose or provide the information requested. This includes the time needed to review instructions, to develop, acquire, install and utilize technology and systems for the purpose of collecting, validating and verifying information, rocessing and maintaining information, and disclosing and providing information, to train personnel and to be able to respond to a collection of information, to search data sources, to complete and review the collection of information, and to transmit or otherwise disclose the information.

The total annual burden hours estimated for this ICR are summarized in the table below.

Total Estimated Annualized Burden—Hours
Form name | Number of respondents | Number of responses per respondent | Average burden per response (in hours) | Total burden hours
Cost Tool | 30 | 1 | 8 | 240
Implementation Tool | 30 | 1 | 1 | 30
Staff Time Use Survey | 600 | 2 | ⅓ | 400
Economic Evaluation Form | 15 | 1 | 3 | 45
Total |  |  |  | 715

Darius Taylor,
Information Collection Clearance Officer.

[FR Doc. 2014-15194 Filed 6-27-14; 8:45 am]

BILLING CODE 4150-30-P